DEPARTMENT OF THE INTERIOR

National Park Service

[NPS-WASO-NAGPRA-NPS0023919; PPWOCRADN0-PCU00RP14.R50000]

Notice of Inventory Completion: Kentucky Historical Society, Frankfort, KY

AGENCY: National Park Service, Interior.

ACTION: Notice.

SUMMARY: The Kentucky Historical Society has completed an inventory of human remains in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Kentucky Historical Society. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Kentucky Historical Society at the address in this notice by October 23, 2017.

ADDRESSES: Beth Caffery Carter, Kentucky Historical Society, 100 West Broadway, Frankfort, KY 40601, telephone (502) 564-1792, email bethc.carter@ky.gov.

SUPPLEMENTARY INFORMATION: Notice is here given in accordance with the Native American Graves Protection and Repatriation Act (NAGPRA), 25 U.S.C. 3003, of the completion of an inventory of human remains under the control of the Kentucky Historical Society, Frankfort, KY. The human remains were removed from Fox Field, Mason County, KY and Steubenville, Jefferson County, OH.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Kentucky Historical Society professional staff in consultation with representatives of the Eastern Band of Cherokee Indians. The Chickasaw Nation responded by letter and deferred to the Eastern Band of Cherokee Indians. The following Indian Tribes and groups were invited to consult but did not participate: Absentee-Shawnee Tribe of Indians of Oklahoma; Cherokee Nation; Assiniboine and Sioux Tribes of the Fort Peck Indian Reservation, Montana; Georgia Tribe of the Eastern Cherokee, a non-federally recognized Indian group; Shawnee Tribe; The Quapaw Tribe of Indians; United Keetoowah Band of Cherokee Indians in Oklahoma; and the Wisconsin Inter-Tribal Repatriation Committee, representing federally recognized Indian Tribes.

History and Description of the Remains

At some time prior to 1964, human remains representing, at minimum, 2 individuals were removed from Fox Field in Mason County, KY, and Steubenville in Jefferson County, OH. The human remains were loaned and then donated to the Kentucky Historical Society by Charles Johnson. The Kentucky Historical Society has no other information about the excavation of these human remains. The human remains include a skull of an adult female from the Fox Field site in Mason County, KY, and a skull of an adult male from Steubenville in Jefferson County, OH. No known individuals were identified. There are no associated funerary objects present.

Determinations Made by the Kentucky Historical Society

Officials of the Kentucky Historical Society have determined that:

• Pursuant to 25 U.S.C. 3001(9), the human remains described in this notice are Native American based on the minimal provenance that came in with them.

• Pursuant to 25 U.S.C. 3001(9), the human remains described in this notice represent the physical remains of 2 individuals of Native American ancestry.

• Pursuant to 25 U.S.C. 3001(2), a relationship of shared group identity cannot be reasonably traced between the Native American human remains and any present-day Indian Tribe.

• Treaties, Acts of Congress, or Executive Orders, indicate that the land from which the Native American human remains were removed is the aboriginal land of the Absentee-Shawnee Tribe of Indians of Oklahoma; Assiniboine and Sioux Tribes of the Fort Peck Indian Reservation, Montana; Cherokee Nation; Eastern Band of Cherokee Indians; Shawnee Tribe; The Chickasaw Nation; The Quapaw Tribe of Indians; and the United Keetoowah Band of Cherokee Indians in Oklahoma.

• Pursuant to 43 CFR 10.11(c)(1), the disposition of the human remains may be to the Absentee-Shawnee Tribe of Indians of Oklahoma; Assiniboine and Sioux Tribes of the Fort Peck Indian Reservation, Montana; Cherokee Nation; Eastern Band of Cherokee Indians; Shawnee Tribe; The Chickasaw Nation; The Quapaw Tribe of Indians; and the United Keetoowah Band of Cherokee Indians in Oklahoma.

Additional Requestors and Disposition

Representatives of any Indian Tribe or Native Hawaiian organization not identified in this notice that wish to request transfer of control of these human remains should submit a written request with information in support of the request to Beth Caffery Carter, Kentucky Historical Society, 100 West Broadway, Frankfort, KY 40601, telephone (502) 564-1792, email bethc.carter@ky.gov, by October 23, 2017. After that date, if no additional requestors have come forward, transfer of control of the human remains to Absentee-Shawnee Tribe of Indians of Oklahoma; Assiniboine and Sioux Tribes of the Fort Peck Indian Reservation, Montana; Cherokee Nation; Eastern Band of Cherokee Indians; Shawnee Tribe; The Chickasaw Nation; The Quapaw Tribe of Indians; United Keetoowah Band of Cherokee Indians in Oklahoma; and, if joined to one or more of the Indian Tribes above, the following non-federally recognized Indian groups: The Echota Cherokee Tribe of Alabama; Georgia Tribe of the Eastern Cherokee; and the Wisconsin Inter-Tribal Repatriation Committee may proceed.

The Kentucky Historical Society is responsible for notifying the Absentee-Shawnee Tribe of Indians of Oklahoma; Assiniboine and Sioux Tribes of the Fort Peck Indian Reservation, Montana; Cherokee Nation; Eastern Band of Cherokee Indians; Shawnee Tribe; The Chickasaw Nation; The Quapaw Tribe of Indians; United Keetoowah Band of Cherokee Indians in Oklahoma; Echota Cherokee Tribe of Alabama; Georgia Tribe of the Eastern Cherokee; and the Wisconsin Inter-Tribal Repatriation Committee that this notice has been published.

Dated: July 31, 2017.
Melanie O'Brien,
Manager, National NAGPRA Program.

[FR Doc. 2017-20307 Filed 9-21-17; 8:45 am]

BILLING CODE 4312-52-P